EQUAL EMPLOYMENT OPPORTUNITY COMMISSION

Agency Information Collection Activities: Proposed Collection; Submission for OMB Review

AGENCY: Equal Employment Opportunity Commission.

ACTION: Final notice of submission for OMB review—no change: Local Union Report EEO-3.

SUMMARY: In accordance with the Paperwork Reduction Act of 1995, the Equal Employment Opportunity Commission (EEOC) hereby gives notice that it has submitted to the Office of Management and Budget (OMB) a request for a three-year extension of the existing collection as described below.

DATES: Written comments on this final notice must be submitted on or before August 4, 2008.

ADDRESSES: The Request for Clearance (SF 83-I), supporting statement, and other documents submitted to OMB for review may be obtained from: Ronald Edwards, Director, Program Research and Surveys Division, 1801 L Street, NW., Washington, DC 20507. Comments on this final notice must be submitted to Chandana Achanta, Office of Information and Regulatory Affairs, Office of Management and Budget, 725 17th Street, NW., Room 10235, New Executive Office Building, Washington, DC 20503 or electronically mailed to Chandana_L._Achanta@omb.eop.gov. Comments should also be sent to Stephen Llewellyn, Executive Officer, Executive Secretariat, Equal Employment Opportunity Commission, 10th Floor, 1801 L Street, NW., Washington, DC 20507 by the Federal eRulemaking Portal: http://www.regulations.gov. After accessing this Web site, follow its instructions for submitting comments. As a convenience to commentators, the Executive Secretariat will accept comments totaling six or fewer pages by facsimile (“FAX”) machine. This limitation is necessary to assure access to the equipment. The telephone number of the FAX receiver is (202) 663-4114. (This is not a toll-free number). Receipt of FAX transmittals will not be acknowledged, except that the sender may request confirmation of receipt by calling the Executive Secretariat staff at (202) 663-4070 (voice) or (202) 663-4074 (TDD). (These are not toll-free telephone numbers).

FOR FURTHER INFORMATION CONTACT: Ronald Edwards, Director, Program Research and Surveys Division, 1801 L Street, NW., Washington, DC 20507, at (202) 663-4958 or TDD (202) 663-7063. This notice is also available in the following formats: Large print, braille, audio tape and electronic file on computer disk. Requests for this notice in an alternative format should be made to the Publications Center at 1-800-669-3362.

SUPPLEMENTARY INFORMATION: A notice that EEOC would be submitting this request was published in the Federal Register on April 18, 2008, allowing for a 60-day public comment period. No comments were received.

Overview of This Information Collection

Type of Review: Three-Year Extension—No change.

Collection Title: Local Union Report (EEO-3).

OMB Number: OMB Number 3046-0006

Form No.: 274.

Frequency of Report: Biennial.

Type of Respondent: Referral local unions with 100 or more members.

Description of Affected Public: Referral local unions and independent or unaffiliated referral unions and similar labor organizations.

Responses: 1,399.

Reporting Hours: 2,098 including recordkeeping.

Cost to Respondents: $39,871.

Number of Forms: 1.

Federal Cost: $60,000.

Abstract: Section 709(c) of Title VII of the Civil Rights Act of 1964, as amended, 42 U.S.C. 2000e-8(c), requires employers to make and keep records relevant to a determination of whether unlawful employment practices have been or are being committed and to make reports there from as required by the EEOC. The EEOC has issued regulations, 29 CFR 1602.22-26, which set forth the reporting requirements for local unions. Referral local unions with 100 or more members have been required to submit EEO-3 reports since 1967 (biennially since 1985). The individual reports are confidential.

Burden Statement: The estimated number of respondents included in the biennial EEO-3 survey is 1,399 referral unions. The total number of responses is 1,399. The biennial reporting is estimated to take is 2,098 hours.

Dated: June 27, 2008.
For the Commission.
Naomi C. Earp,
Chair.

[FR Doc. E8-15055 Filed 7-2-08; 8:45 am]

BILLING CODE 6570-01-P